ENVIRONMENTAL PROTECTION AGENCY

[EPA-HQ-OPP-2020-0492; FRL-10432-01-OCSPP]

United States Department of Justice and Parties to Certain Litigation; Transfer of Data

AGENCY: Environmental Protection Agency (EPA).

ACTION: Notice.

SUMMARY: This notice announces that pesticide related information submitted to the Environmental Protection Agency (EPA) pursuant to the Federal Insecticide, Fungicide, and Rodenticide Act (FIFRA) and the Federal Food, Drug, and Cosmetic Act (FFDCA), including information that may have been claimed as Confidential Business Information (CBI) by the submitter, will be transferred to the U.S. Department of Justice (DOJ) and parties to certain litigation. This transfer of data is in accordance with the CBI regulations governing the disclosure of potential CBI in litigation.

DATES: Access to this information by DOJ and the parties to certain litigation is ongoing and expected to continue during the litigation as discussed in this Notice.

FOR FURTHER INFORMATION CONTACT: Daniel Rosenblatt, Registration Division (7505T), Office of Pesticide Programs, Environmental Protection Agency, 1200 Pennsylvania Ave. NW, Washington, DC 20460-0001; telephone number: (202) 566-2659; email address: RDFRNotices@epa.gov.

SUPPLEMENTARY INFORMATION: This notice is being provided pursuant to 40 CFR 2.209(d) to inform affected businesses that EPA, via DOJ, will provide certain information to the parties and the Court in the matter of Center for Biological Diversity et al. v. United States Environmental Protection Agency et al., Case No. 4:20-cv-00555-DCB (D. Ariz.) (“Dicamba Litigation”). The information is contained in documents that have been submitted to EPA pursuant to FIFRA and FFDCA by pesticide registrants or other data-submitters, including information that has been claimed to be, or determined to potentially contain, CBI. In the Dicamba Litigation, the plaintiffs seek judicial review of three EPA registration decisions and related registration amendments for products that contain dicamba for use on dicamba-tolerant cotton and soybeans, issued under FIFRA, 7 U.S.C. 136 et seq.

The documents are being produced as part of the Administrative Record of the decisions at issue and include documents that registrants or other data-submitters may have submitted to EPA regarding the pesticide dicamba, and that may be subject to various release restrictions under federal law. The information includes documents submitted with pesticide registration applications and may include CBI as well as scientific studies subject to the disclosure restrictions of FIFRA section 10(g), 7 U.S.C. 136h(g).

All documents that may be subject to release restrictions under federal law are designated as “Protected Information” under a Protective Order that was entered by the court in the Dicamba Litigation on November 10, 2022 (Doc. No. 93). The Protective Order precludes public disclosure of any such documents by the parties in this action who have received the information from EPA and limits the use of such documents to litigation purposes only. If filed with the Court, the Protective Order requires that such documents be filed under seal and not be available for public review.

Authority: 7 U.S.C. 136 et seq.; 21 U.S.C. 301 et seq.

Dated: November 22, 2022.
Daniel Rosenblatt,
Acting Director, Registration Division, Office of Pesticide Programs.

[FR Doc. 2022-26251 Filed 12-1-22; 8:45 am]

BILLING CODE 6560-50-P